DEPARTMENT OF HOMELAND SECURITY

Federal Emergency Management Agency

44 CFR Part 67

[Docket ID FEMA-2008-0020]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Ashe County, North Carolina, and Incorporated Areas
Docket No.: FEMA-B-1010
Bear Creek | Approximately 600 feet upstream of the confluence with South Fork New River | +2677 | Unincorporated Areas of Ashe County.
| Approximately 1.8 miles upstream of NC 16 Highway | +2826
Beaver Creek | Approximately 1,500 feet downstream of Mash Stuart Road (State Road 1199) | +2872 | Unincorporated Areas of Ashe County, Town of West Jefferson.
| Approximately 350 feet upstream of Earl Ray Road (State Road 1144) | +3120
Big Horse Creek | Approximately 550 feet upstream of the confluence with North Fork New River | +2645 | Unincorporated Areas of Ashe County, Town of Lansing.
| Approximately 0.6 mile upstream of Farmers Store Road (State Road 1360) | +3642
Big Laurel Creek | At the confluence with North Fork New River | +2814 | Unincorporated Areas of Ashe County.
| Approximately 40 feet downstream of Denny Road (State Road 1326) | +3232
Big Windfall Branch | At the confluence with Big Horse Creek | +2707 | Unincorporated Areas of Ashe County.
| Approximately 300 feet downstream of Big Windfall Road (State Road 1353) | +3039
Brush Fork | Approximately 500 feet upstream of the confluence with North Fork New River | +3029 | Unincorporated Areas of Ashe County.
| Approximately 75 feet upstream of West Brushy Fork Road (State Road 1302) | +3155
Buffalo Creek | At the second crossing of Warrensville Drive (State Road 1507) | +2687 | Unincorporated Areas of Ashe County.
| Approximately 0.7 mile upstream of Perry Road | +3046
Cabbage Creek | Approximately 100 feet upstream of the confluence with North Fork New River | +2897 | Unincorporated Areas of Ashe County.
| Approximately 360 feet upstream of Cabbage Creek Road (State Road 1307) | +2963
Cabbage Creek Tributary | At the confluence with Cabbage Creek | +2942 | Unincorporated Areas of Ashe County.
| Approximately 1,500 feet upstream of the confluence with Cabbage Creek | +2959
Call Creek | At the confluence with Old Field Creek | +2888 | Unincorporated Areas of Ashe County.
| Approximately 200 feet downstream of East Mill Creek Road (State Road 1112) | +3055
Cole Branch | Approximately 1.1 miles upstream of the confluence with Beaver Creek | +3045 | Town of West Jefferson.
| Approximately 1.2 miles upstream of the confluence with Beaver Creek | +3071
Cranberry Creek | Approximately 950 feet upstream of the confluence with South Fork New River | +2565 | Unincorporated Areas of Ashe County.
| Approximately 1.2 miles upstream of NC 88 Highway E | +2743
Cranberry Creek West | Approximately 630 feet upstream of the confluence with South Fork New River | +2899 | Unincorporated Areas of Ashe County.
| Approximately 1,000 feet upstream of Cranberry Springs Road (State Road 1100) | +3029
East Fork | At the confluence with Pine Swamp Creek | +2910 | Unincorporated Areas of Ashe County.
| Approximately 0.8 mile upstream of Idlewild Road (State Road 1003) | +3057
Elk Creek (into South Fork New River) | Approximately 150 feet upstream of the confluence with South Fork New River | +2955 | Unincorporated Areas of Ashe County.
| Approximately 1.3 miles upstream of Preacher Blackburn Road (State Road 1117) | +3071
Ezra Fork Creek | Approximately 1,560 feet upstream of U.S. Highway 221 | +2818 | Unincorporated Areas of Ashe County.
| Approximately 0.5 mile upstream of Highway U.S. 221 | +2838
Fees Branch | At the confluence with Helton Creek | +2890 | Unincorporated Areas of Ashe County.
| Approximately 500 feet upstream of Fees Branch Road (State Road 1372) | +2948
Gap Creek | Approximately 1,700 feet upstream of the confluence with South Fork New River | +2863 | Unincorporated Areas of Ashe County.
| The Ashe/Watauga County boundary | +2952
Grassy Creek | At the confluence with New River | +2483 | Unincorporated Areas of Ashe County.
| Approximately 1.1 miles upstream of Old NC 16 Highway (State Road 1573) | +2679
Greer Branch | At the confluence with South Fork Little Horse Creek | +2905 | Unincorporated Areas of Ashe County.
| Approximately 0.6 mile upstream of Greer Hollow Road (State Road 1333) | +3037
Helton Creek | Approximately 1,200 feet upstream of the confluence with North Fork New River | +2556 | Unincorporated Areas of Ashe County.
| Approximately 0.9 mile upstream of Fees Branch Road (State Road 1372) | +2962
Helton Creek Tributary 1 | At the confluence with Helton Creek | +2777 | Unincorporated Areas of Ashe County.
| Approximately 0.5 mile upstream of the confluence of Helton Creek Tributary 1A | +2864
Helton Creek Tributary 1A | At the confluence with Helton Creek Tributary 1 | +2816 | Unincorporated Areas of Ashe County.
| Approximately 1,320 feet upstream of Spencer Branch Road (State Road 1373) | +2848
Jerd Branch | At the confluence with Helton Creek | +2805 | Unincorporated Areas of Ashe County.
| Approximately 1,093 feet upstream of NC Highway 194 | +2884
Jones Branch | At the confluence with Little Helton Creek | +2723 | Unincorporated Areas of Ashe County.
| At the Virginia/North Carolina state boundary | +2758
Little Buffalo Creek | At the confluence with Buffalo Creek | +2782 | Unincorporated Areas of Ashe County, Town of West Jefferson.
| Approximately 0.8 mile upstream of the confluence with Buffalo Creek | +2981
Little Buffalo Creek Tributary 1 | At the confluence with Little Buffalo Creek | +2921 | Unincorporated Areas of Ashe County, Town of West Jefferson.
| Approximately 170 feet downstream of South Main Street | +2968
Little Helton Creek | At the confluence with Helton Creek | +2636 | Unincorporated Areas of Ashe County.
| Approximately 200 feet upstream of the Virginia/North Carolina state boundary | +2757
Little Helton Creek Tributary 1 | At the confluence with Little Helton Creek | +2691 | Unincorporated Areas of Ashe County.
| Approximately 0.6 mile upstream of the confluence with Little Helton Creek | +2750
Little Helton Creek Tributary 2 | At the confluence with Little Helton Creek | +2751 | Unincorporated Areas of Ashe County.
| Approximately 0.4 mile upstream of the confluence with Little Helton Creek | +2798
Little Horse Creek | At the confluence with Big Horse Creek | +2665 | Unincorporated Areas of Ashe County.
| Approximately 1.1 miles upstream of Little Horse Creek Road (State Road 1324) | +3033
Little Laurel Creek | At the confluence with Big Laurel Creek | +2843 | Unincorporated Areas of Ashe County.
| Approximately 880 feet upstream of Little Laurel Road (State Road 1310) | +3323
Little Naked Creek | At the confluence with Naked Creek | +2686 | Unincorporated Areas of Ashe County.
| Approximately 1,490 feet upstream of East Landing Drive | +2712
Little Peak Creek | At the confluence with Peak Creek | +2608 | Unincorporated Areas of Ashe County.
| Approximately 0.5 mile upstream of Little Peak Creek Road | +2690
Little Phoenix Creek | Approximately 250 feet upstream of the confluence with North Fork New River | +2604 | Unincorporated Areas of Ashe County.
| Approximately 0.9 mile upstream of the confluence of Little Phoenix Creek Tributary | +2836
Little Phoenix Creek Tributary | At the confluence with Little Phoenix Creek | +2727 | Unincorporated Areas of Ashe County.
| Approximately 0.4 mile upstream of Old NC Highway 16 (State Road 1573) | +2871
Little Piney Creek | At the confluence with Piney Creek | +2634 | Unincorporated Areas of Ashe County.
| Approximately 1,210 feet upstream of Piney Creek Road (State Road 1517) | +2679
Long Branch | At the confluence with Little Helton Creek | +2643 | Unincorporated Areas of Ashe County.
| Approximately 0.4 mile upstream of Jim Duvall Road (State Road 1528) | +2715
Long Branch South | At the confluence with North Fork New River | +2577 | Unincorporated Areas of Ashe County.
| Approximately 500 feet upstream of Shatley Springs Road (State Road 1574) | +2648
Middle Fork Little Horse Creek | At the confluence with Little Horse Creek | +2936 | Unincorporated Areas of Ashe County.
| Approximately 0.9 mile upstream of East Big Springs Road (State Road 1319) | +3082
Middle Fork Little Horse Creek Tributary | At the confluence with Middle Fork Little Horse Creek | +2995 | Unincorporated Areas of Ashe County.
| Approximately 0.4 mile upstream of the confluence with Middle Fork Little Horse Creek | +3049
Mill Creek | Approximately 300 feet upstream of the confluence with North Fork New River | +2738 | Unincorporated Areas of Ashe County.
| Approximately 1.7 miles upstream of West Mill Creek Road (State Road 1340) | +2935
Mill Creek (South) | Approximately 450 feet upstream of the confluence with South Fork New River | +2906 | Unincorporated Areas of Ashe County.
| Approximately 365 feet upstream of Mill Creek Road (State Road 1109) | +3051
Naked Creek | Approximately 0.5 mile upstream of the confluence with South Fork New River | +2665 | Unincorporated Areas of Ashe County, Town of Jefferson.
| Approximately 400 feet upstream of South Main Street | +2920
Naked Creek Tributary 2 | At the confluence with Naked Creek | +2908 | Town of Jefferson.
| Approximately 1,190 feet upstream of West Main Street | +2940
Nathans Creek | Approximately 250 feet upstream of the confluence with South Fork New River | +2579 | Unincorporated Areas of Ashe County.
| Approximately 550 feet upstream of U.S. 221 Highway | +2718
New River | Approximately 500 feet downstream of the Ashe/Alleghany County boundary | +2480 | Unincorporated Areas of Ashe County.
| At the confluence of the North Fork New River and South Fork New River | +2487
North Fork New River | At the confluence with New River and South Fork New River | +2487 | Unincorporated Areas of Ashe County.
| Approximately 50 feet downstream of West Peak Road (State Road 1119) | +3023
North Fork New River Tributary 1 | At the confluence with North Fork New River | +2503 | Unincorporated Areas of Ashe County.
| Approximately 0.4 mile upstream of the confluence with North Fork New River | +2557
Obids Creek | Approximately 350 feet upstream of the confluence with South Fork New River | +2718 | Unincorporated Areas of Ashe County.
| Approximately 250 feet upstream of Idlewild Road (State Road 1003) | +2874
Old Field Branch | At the confluence with Big Horse Creek | +2660 | Unincorporated Areas of Ashe County, Town of Lansing.
| Approximately 0.5 mile upstream of Glenn King Road (State Road 1519) | +2853
Old Field Creek | Approximately 1,400 feet upstream of the confluence with South Fork New River | +2874 | Unincorporated Areas of Ashe County.
| Approximately 0.7 mile upstream of Mulatto Mountain Road (State Road 1145) | +3048
Old Field Creek (North) | Approximately 300 feet upstream of the confluence with North Fork New River | +2566 | Unincorporated Areas of Ashe County.
| Approximately 0.5 mile upstream of the confluence with North Fork New River | +2693
Peak Creek | Approximately 1,500 feet upstream of the confluence with South Fork New River | +2604 | Unincorporated Areas of Ashe County.
| Approximately 1.2 miles upstream of NC Highway 88 | +2866
Pine Swamp Creek | Approximately 850 feet upstream of the confluence with South Fork New River | +2837 | Unincorporated Areas of Ashe County.
| Approximately 0.7 mile upstream of Idlewild Road (State Road 1003) | +3010
Piney Creek | Approximately 250 feet upstream of the confluence with North Fork New River | +2624 | Unincorporated Areas of Ashe County.
| Approximately 150 feet upstream of Piney Creek Road (State Road 1517) | +2685
Rich Hill Creek | At the confluence with North Fork New River | +2799 | Unincorporated Areas of Ashe County.
| Approximately 1.1 miles upstream of NC Highway 88 | +2920
Roan Creek | Approximately 650 feet upstream of the confluence with South Fork New River | +2666 | Unincorporated Areas of Ashe County.
| Approximately 340 feet upstream of Earl Sheets Road (State Road 1625) | +2919
Roaring Fork | At the confluence with Big Laurel Creek | +2917 | Unincorporated Areas of Ashe County.
| Approximately 0.4 mile upstream of Roaring Fork Road (State Road 1320) | +3078
Rock Creek | Approximately 120 feet upstream of NC Highway 88 | +2942 | Unincorporated Areas of Ashe County.
| Approximately 1.4 miles upstream of NC 88 Highway | +3125
Shippy Branch | At the confluence with Little Helton Creek | +2730 | Unincorporated Areas of Ashe County.
| At the Virginia/North Carolina state boundary | +2774
Silas Creek | At the confluence with North Fork New River | +2583 | Unincorporated Areas of Ashe County.
| Approximately 1.0 mile upstream of the confluence of Silas Creek Tributary 2 | +2795
Silas Creek Tributary 1 | At the confluence with Silas Creek | +2691 | Unincorporated Areas of Ashe County.
| Approximately 1,376 feet upstream of the confluence with Silas Creek | +2782
Silas Creek Tributary 2 | At the confluence with Silas Creek | +2709 | Unincorporated Areas of Ashe County.
| Approximately 1,516 feet upstream of the confluence with Silas Creek | +2805
South Beaver Creek | Approximately 400 feet upstream of the confluence with Beaver Creek | +2792 | Unincorporated Areas of Ashe County.
| Approximately 1,800 feet upstream of Lakeside Drive | +2941
South Fork Little Horse Creek | At the confluence with Little Horse Creek | +2769 | Unincorporated Areas of Ashe County.
| Approximately 785 feet upstream of Jack Jones Road (State Road 1332) | +2933
South Fork New River | At the confluence with New River and North Fork New River | +2487 | Unincorporated Areas of Ashe County.
| Approximately 2.3 miles upstream of Kings Creek Road (State Road 1308) | +2524
South Fork New River Tributary 3 | Approximately 350 feet upstream of the confluence with South Fork New River | +2685 | Unincorporated Areas of Ashe County.
| Approximately 1,200 feet upstream of Claude Mash Road (State Road 1158) | +2844
South Fork New River Tributary 4 | Approximately 400 feet upstream of the confluence with South Fork New River | +2815 | Unincorporated Areas of Ashe County.
| Approximately 0.8 mile upstream of Lower Nettle Knob Road (State Road 1181) | +2894
Stagg Creek | Approximately 350 feet upstream of the confluence with North Fork New River | +2702 | Unincorporated Areas of Ashe County.
| Approximately 1.4 miles upstream of Staggs Creek Road (State Road 1342) | +2861
Three Top Creek | At the confluence with North Fork New River | +2858 | Unincorporated Areas of Ashe County.
| Approximately 1,830 feet upstream of Bald Fork Road | +3273
West Fork | At the confluence with Pine Swamp Creek | +2862 | Unincorporated Areas of Ashe County.
| Approximately 990 feet upstream of Creekside Drive | +3124
* National Geodetic Vertical Datum.
+ North American Vertical Datum.
# Depth in feet above ground.
ADDRESSES
Town of Jefferson
Maps are available for inspection at the Jefferson Town Hall, 302 East Main Street, Jefferson, NC 28640.
Town of Lansing
Maps are available for inspection at the Lansing Town Hall, 173 B Street, Lansing, NC 28643.
Town of West Jefferson
Maps are available for inspection at the West Jefferson Town Hall, 1 South Jefferson Avenue, West Jefferson, NC 28694.
Unincorporated Areas of Ashe County
Maps are available for inspection at the Ashe County Building Inspector's Office, 150 Government Circle, Suite 2400, Jefferson, NC 28640.
Grant County, South Dakota, and Incorporated Areas
Docket No.: FEMA-B-1004
South Fork Whetstone River | Approximately 48 feet upstream of 479th Avenue | +1116 | City of Milbank, Unincorporated Areas of Grant County.
| Approximately 790 feet upstream of North Dakota Street | +1132
* National Geodetic Vertical Datum.
+ North American Vertical Datum.
# Depth in feet above ground.
ADDRESSES
City of Milbank
Maps are available for inspection at the Milbank City Offices, 1001 East 4th Avenue, Milbank, SD 57252.
Unincorporated Areas of Grant County
Maps are available for inspection at the Grant County Courthouse, 210 East 5th Avenue, Milbank, SD 57252.
Fond Du Lac County, Wisconsin, and Incorporated Areas
Docket No.: FEMA-B-7724
McDermott Creek | Approximately 0.4 mile downstream of County Highway T | +777 | City of Fond Du Lac, Unincorporated Areas of Fond Du Lac County.
| Approximately 0.4 mile upstream of County Highway T | +808
Mosher Creek | Approximately 300 feet upstream of U.S. Highway 45 (Lakeshore Drive) | +749 | Village of North Fond Du Lac, Unincorporated Areas of Fond Du Lac County.
| Approximately 200 feet upstream of McKinley Street | +767
Rush Lake | Approximately 0.6 mile Northwest of the intersection of Island Road and Elbow Road | +823 | Unincorporated Areas of Fond Du Lac County.
| Approximately 0.5 mile Northeast of the intersection of Rich Road and County Highway E | +823
South Branch, Rock River | Just downstream of Northbound U.S. Highway 151 | +871 | Unincorporated Areas of Fond Du Lac County.
| Just upstream of Southbound U.S. Highway 151 | +871
Taycheedah Creek | Approximately 0.5 mile downstream of DuCharme Parkway | +754 | City of Fond Du Lac, Unincorporated Areas of Fond Du Lac County.
| Just downstream of state Highway 23 | +768
* National Geodetic Vertical Datum.
+ North American Vertical Datum.
# Depth in feet above ground.
ADDRESSES
City of Fond Du Lac
Maps are available for inspection at City Hall, 160 South Macy Street, Fond Du Lac, WI 54935-0150.
Unincorporated Areas of Fond Du Lac County
Maps are available for inspection at Fond Du Lac County Courthouse, 160 South Macy Street, Fond Du Lac, WI 54935.
Village of North Fond Du Lac
Maps are available for inspection at the Village Hall, North Fond Du Lac, 16 Garfield Street, North Fond Du Lac, WI 54937-1399.

(Catalog of Federal Domestic Assistance No. 97.022, “Flood Insurance.”)

Dated: June 9, 2009.
Edward L. Connor,
Acting Assistant Administrator, Mitigation Directorate, Department of Homeland Security, Federal Emergency Management Agency.

[FR Doc. E9-14276 Filed 6-16-09; 8:45 am]

BILLING CODE 9110-12-P